DEPARTMENT OF HOMELAND SECURITY

Coast Guard

33 CFR Part 165

[Docket No. USCG-2014-0680]

RIN 1625-AA00

Eighth Coast Guard District Annual Safety Zones; Bob O'Connor Foundation Fireworks; Ohio River Mile 0.0 to 0.1; Pittsburgh, PA

AGENCY: Coast Guard, DHS.

ACTION: Notice of enforcement of regulation.

SUMMARY: The Coast Guard will enforce a safety zone for the Bob O'Connor Foundation Fireworks on the Ohio River from mile 0.0 to 0.1. This zone will be in effect on August 20, 2014 from 8:30 p.m. until 9:40 p.m. This zone is needed to protect vessels transiting the area and event spectators from the hazards associated with the Bob O'Connor Foundation Fireworks. During the enforcement period, entry into, transiting, or anchoring in the safety zone is prohibited to all vessels not registered with the sponsor as participants or official patrol vessels, unless specifically authorized by the Captain of the Port (COTP) Pittsburgh or a designated representative.

DATES: The regulations in 33 CFR 165.801 will be enforced with actual notice on August 20, 2014 from 8:30 p.m. until 9:40 p.m.

FOR FURTHER INFORMATION CONTACT: If you have questions on this notice of enforcement, call or email Jennifer Haggins, Marine Safety Unit Pittsburgh, U.S. Coast Guard, at telephone (412) 644-5808, email Jennifer.L.Haggins@uscg.mil.

SUPPLEMENTARY INFORMATION: The Coast Guard will enforce the Safety Zone for the annual Bob O'Connor Foundation Fireworks listed in 33 CFR 165.801, Table 1, Entry No. 29; Sector Ohio Valley on August 20, 2014 from 8:30 p.m. until 9:40 p.m.

Under the provisions of 33 CFR 165.801, entry into the safety zone listed in Table 1, Entry No. 29; Sector Ohio Valley, is prohibited unless authorized by the COTP or a designated representative. Persons or vessels desiring to enter into or passage through the safety zone must request permission from the COTP Pittsburgh or a designated representative. If permission is granted, all persons and vessels shall comply with the instructions of the COTP Pittsburgh or designated representative.

This notice is issued under authority of 5 U.S.C. 552 (a); 33 U.S.C. 1231; 46 U.S.C. Chapter 701, 3306, 3703; 50 U.S.C. 191, 195; 33 CFR 1.05-1, 6.04-1, 6.04-6, and 160.5; Public Law 107-295, 116 Stat. 2064; Department of Homeland Security Delegation No. 0170.1. In addition to this notification in the Federal Register, the Coast Guard will provide the maritime community with advance notification of this enforcement period via Local Notice to Mariners and updates via Marine Information Broadcasts.

If the COTP Pittsburgh or designated representative determines that the safety zone need not be enforced for the full duration stated in this notice of enforcement, he or she may use a Broadcast Notice to Mariners to grant general permission to enter the regulated area.

Dated: August 1, 2014.
L.N. Weaver,
Commander, U.S. Coast Guard, Captain of the Port, Pittsburgh.

[FR Doc. 2014-19573 Filed 8-18-14; 8:45 am]

BILLING CODE 9110-04-P